DEPARTMENT OF DEFENSE

Office of Secretary

[Docket ID: DoD-2008-OS-0056]

Privacy Act of 1974; Systems of Records

AGENCY: Defense Finance and Accounting Service, DoD.

ACTION: Notice to Add a System of Records.

SUMMARY: The Defense Finance and Accounting Service (DFAS) is proposing to add a system of records notice to its inventory of record systems subject to the Privacy Act of 1974, (5 U.S.C. 552a), as amended.

DATES: This action will be effective without further notice on June 18, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on May 2, 2008, to the House Committee on Government Reform, the Senate Committee on Governmental Affairs, and the Office of Management and Budget (OMB) pursuant to paragraph 4c of Appendix I to OMB Circular No. A-130, “Federal Agency Responsibilities for Maintaining Records about Individuals,” dated December 12, 2000, 65 FR 239.

Dated: May 7, 2008.
Patricia L. Toppings,
OSD Federal Register Liaison Officer, Department of Defense.

T-7340d

System Name:

Defense Military Pay Office Input and Reporting System.

System location:

Defense Accounting and Finance Service—Denver, 6760 East Irvington Place, Denver, CO 80279-3000.

Defense Finance and Accounting Service—Indianapolis, 8899 E. 56th Street, Indianapolis, IN 46249-0001.

Defense Finance and Accounting Service—Cleveland, 1240 East Ninth Street, Cleveland, OH 44199-2055.

For a list of other sites, contact the systems manager at Defense Finance and Accounting Service, Defense Military Pay Project Office, System Manager, DFAS/DDMP—Cleveland, 1240 East Ninth Street, Cleveland, Ohio 44199-2055.

Categories of individuals covered by the system:

Army, Navy and Air Force, active duty, reserve, National Guard, military members, military academy cadets, and Armed Forces Health Professions Scholarship Program (AFHPSP) students.

Categories of records in the system:

Individual's name; Social Security Number (SSN); Master Military Pay Account records for Army, Navy, Air Force, active duty, reserve and National Guard military members; military academy cadets, and Armed Forces Health Professions Scholarship Program (AFHPSP) students; wage and tax summaries; leave and earnings statements; Basic Military Training (BMT) master record; and other records generated substantiating or authorizing active component military pay and allowance entitlement, deduction, or collection actions.

Authority for maintenance of the system:

5 U.S.C. 301, Departmental Regulations; 37 U.S.C. 37 U.S.C. 101-310, Pay and Allowances of the Uniformed Services; and E.O. 9397 (SSN).

Purpose(s):

To establish a user-friendly computer application that will provide input and reporting capabilities for the Defense Joint Military Pay Account Systems, Active, and Reserve Component. DFAS and the military Finance Offices will use this new system to input transactions, and pull report data from the Master Military Pay Account (MMPA) record that is maintained for each military member.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the DoD compilation of systems of records notices also apply to this system.

Policies and practices for storing, retrieving, accessing, retaining, and disposing of records in the system:

Storage:

Magnetic tapes, computer disks, and computer output products.

Retrievability:

Name and Social Security number (SSN).

Safeguards:

Records are located in office buildings on military installations, and Navy ships that are protected by guards controlled screening, use of visitor registers, electronic access, and/or locks. Access to records is limited to individuals who are properly screened and cleared on a need-to-know basis in the performance of their official duties.

Passwords and digital signatures are used to control access to the systems data, and procedures are in place to deter and detect browsing and unauthorized access. Physical and electronic access are limited to persons responsible for servicing and authorized to use the record system.

Retention and disposal:

Records may be temporary in nature and destroyed when actions are completed, superseded, obsolete, or no longer needed. Other records may be cut off at the end of the payroll year or fiscal year, and destroyed 6 years and 3 months after cutoff. The records are destroyed by tearing, shredding, pulping, macerating, burning, or degaussing the electronic storage media.

System manager(s) and address:

Defense Finance and Accounting Service, Defense Military Pay Project Office, System Manager, DFAS/DDMP-Cleveland, 1240 East Ninth Street, Cleveland, Ohio 44199-2055.

Notification procedure:

Individuals seeking to determine whether information about them is contained in this record system should address written inquiries to the Defense Finance and Accounting Service, Freedom of Information/Privacy Act Program Manager, Corporate Communications and Legislative Liaison, 6760 E. Irvington Place, Denver, CO 80279-8000.

Individuals should furnish full name, Social Security Number (SSN), current address, and telephone number.

Record access procedures:

Individuals seeking access to information about them contained in this system should address written inquiries to Defense Finance and Accounting Service, Freedom of Information/Privacy Act Program Manager, Corporate Communications and Legislative Liaison, 6760 E. Irvington Place, Denver, CO 80279-8000.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Individual military members; Army, Navy, and Air Force military pay Finance Offices; Reserve and National Guard Finance Offices, military academies, and Armed Forces Health Professions Scholarship Program (AFHPSP) administrators.

Exemptions claimed for the system:

None.

[FR Doc. E8-11115 Filed 5-16-08; 8:45 am]

BILLING CODE 5001-06-P